DEPARTMENT OF ENERGY

Federal Energy Regulatory Commission

Sunshine Act Meetings

The following notice of meeting is published pursuant to section 3(a) of the government in the Sunshine Act (Pub. L. 94-409), 5 U.S.C. 552b:

AGENCY HOLDING MEETING: Federal Energy Regulatory Commission, DOE.

DATE AND TIME: October 18, 2012. 9:00 a.m.

*Note: There has been a time change for this meeting only.

PLACE: Room 2C, 888 First Street NE., Washington, DC 20426.

STATUS: Open.

MATTERS TO BE CONSIDERED: Agenda.

*Note: Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

985th—Meeting; Regular Meeting
[October 18, 2012, 9:00 a.m.]
Item No. | Docket No. | Company
ADMINISTRATIVE
A-1 | AD02-1-000 | Agency Business Matters.
A-2 | AD02-7-000 | Customer Matters, Reliability, Security and Market Operations.
ELECTRIC
E-1 | RM10-23-002 | Transmission Planning and Cost Allocation by Transmission Owning and Operating Public Utilities.
E-2 | RM12-22-000 | Reliability Standards for Geomagnetic Disturbances.
E-3 | RM12-4-000 | Revisions to Reliability Standard for Transmission Vegetation Management.
E-4 | ER12-1179-000 | Southwest Power Pool, Inc.
| ER12-1179-001.
E-5 | ER12-550-000 | Southwest Power Pool, Inc.
E-6 | OMITTED. |
E-7 | ER12-2506-000 | Southern California Edison Company.
E-8 | EL12-100-000 | Benjamin Riggs v. Rhode Island Public Utilities Commission.
E-9 | OMITTED. |
E-10 | OMITTED. |
E-11 | EL12-75-000 | Pepco Holdings, Inc.
E-12 | OMITTED. |
E-13 | EC11-60-004 | Duke Energy Corporation Progress Energy, Inc.
| ER12-1339-001. | Carolina Power & Light Company.
| ER12-1340-001.
| ER12-1341-001.
| ER12-1342-001 | Duke Energy Carolinas, LLC.
E-14 | ER11-3839-000 | Nevada Power Company.
| ER11-3839-001.
MISCELLANEOUS
M-1 | RM12-2-000 | Filing of Privileged Materials and Answers to Motions.
GAS
G-1 | OMITTED.
G-2 | RM12-14-000 | Annual Charge Filing Procedures for Natural Gas Pipelines.
G-3 | RM12-15-000 | Filing, Indexing and Service Requirements for Oil Pipelines.
G-4 | RM12-17-000 | Revisions to Procedural Regulations Governing Transportation by Intrastate Pipelines.
HYDRO
H-1 | P-13944-002 | Valley Affordable Housing Corporation.
H-2 | P-82-026 | Alabama Power Company.
H-3 | DI11-13-001 | Cottonwood Hydro, LLC.
CERTIFICATES
C-1 | CP11-56-001 | Texas Eastern Transmission, LP and Algonquin Gas Transmission, LLC.
C-2 | CP12-11-000 | Elba Express Company, L.L.C.
| CP12-11-001.

Dated: October 11, 2012.
Kimberly D. Bose,
Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2012-25490 Filed 10-12-12; 11:15 am]

BILLING CODE 6717-01-P